DEPARTMENT OF LABOR

Employment and Training Administration

[TA-W-71,039]

Mitsubishi Electric Automotive America, Inc., Mason, OH; Notice of Termination of Investigation

Pursuant to Section 223 of the Trade Act of 1974, as amended, an investigation was initiated in response to a petition filed on June 8, 2009 by a company official on behalf of workers of Mitsubishi Electric Automotive America, Inc., Mason, Ohio.

The petitioner has requested that the petition be withdrawn. Consequently, the investigation has been terminated.

Signed at Washington, DC this 17th day of August 2009.
Elliott S. Kushner,
Certifying Officer, Division of Trade Adjustment Assistance.

[FR Doc. E9-29168 Filed 12-7-09; 8:45 am]

BILLING CODE 4510-FN-P